Proclamation 8231 of April 1, 2008

National Donate Life Month, 2008

By the President of the United States of America

A Proclamation

Every human life has matchless value, and during National Donate Life Month, we reaffirm our commitment to raising awareness about the importance of organ donation. We also express our appreciation to those who have donated organs, tissue, and marrow.

Thousands of Americans are currently on the waiting list for an organ or tissue transplant. I urge all Americans to register with their State's donor registry; fill out, sign, and carry an organ donor card; say yes to organ donation on their driver's license; and share their decision with family and friends. By taking these steps, Americans can help save lives. My Administration is committed to strengthening organ and tissue donation programs and awareness activities. Just last year, I was pleased to sign the “Charlie W. Norwood Living Organ Donation Act,” which helps match more donors with those in need of transplants. The kindness and generosity of donors reflect the compassionate spirit of our Nation.

During National Donate Life Month, we celebrate the life-saving work of medical professionals and researchers and the many others whose actions reflect our commitment to a brighter tomorrow. Individuals can visit organdonor.gov to learn more about organ and tissue donation and how they can give the gift of life.

NOW, THEREFORE, I, GEORGE W. BUSH, President of the United States of America, by virtue of the authority vested in me by the Constitution and laws of the United States, do hereby proclaim April 2008 as National Donate Life Month. I call upon health care professionals, volunteers, educators, government agencies, faith-based and community groups, and private organizations to help raise awareness of the urgent need for organ and tissue donors throughout our Nation.

IN WITNESS WHEREOF, I have hereunto set my hand this first day of April, in the year of our Lord two thousand eight, and of the Independence of the United States of America the two hundred and thirty-second.

[FR Doc. 08-1100

Filed 4-2-08; 9:03 am]

Billing code 3195-01-P